DEPARTMENT OF HOUSING AND URBAN DEVELOPMENT

[Docket No. FR-5800-FA-07]

Announcement of Funding Awards HOPE VI Main Street Grant Program Fiscal Year (FY) 2014

AGENCY: Office of the Acting Assistant Secretary for Public and Indian Housing, HUD

ACTION: Announcement of funding awards.

SUMMARY: In accordance with Section 102(a)(4)(C) of the Department of Housing and Urban Development Reform Act of 1989, this announcement notifies the public of funding decisions made by the Department in a competition for funding under the FY 2014 Notice of Funding Availability (NOFA) for the HOPE VI Main Street Program. This announcement contains the name and address of the award recipient under said NOFA.

FOR FURTHER INFORMATION CONTACT: For questions concerning the HOPE VI Main Street Program awards, contact Lawrence Gnessin, HOPE VI Main Street Program Manager, Office of Public and Indian Housing, Department of Housing and Urban Development, 451 7th Street SW., Washington, DC 20410, email lawrence.gnessin@hud.gov, and telephone (202) 402-2676. Hearing or speech-impaired individuals may access this number via TTY by calling the toll-free Federal Information Relay Service at (800) 877-8339.

SUPPLEMENTARY INFORMATION: The purpose of the HOPE VI Main Street program is to provide grants to small communities to assist in the rejuvenation of an historic or traditional central business district or “Main Street” area by replacing unused commercial space in buildings with affordable housing units. The objectives of the program are to redevelop Main Street areas; preserve historic or traditional architecture or design features in Main Street areas; enhance economic development efforts in Main Street areas; and provide affordable housing in Main Street areas.

The FY 2014 award announced in this Notice was selected for funding in a NOFA competition posted on the http://www.grants.gov Web site on July 4, 2014. Applicants to this Notice were eligible for awards in FY 2014, but HUD reserved the right to award one FY 2015 grant to applicants from this FY 2014 NOFA. In addition, HUD intends to award FY 2015 funds to an FY 2014 applicant if funding becomes available. That process will be announced separately.

The amount allotted to fund the HOPE VI Main Street grant were from appropriations for Section 24 of the Housing Act of 1937, as amended. The amount allotted for FY2014 was $500,000. The HOPE VI Main Street grantee information is as follows:

Town of Kit Carson

301 Main Street

Kit Carson, CO 80825-0375

In accordance with Section 102 (a)(4)(C) of the Department of Housing and Urban Development Reform Act of 1989 (103 Stat.1987, 42 U.S.C. 3545), the Department is publishing the name, address, and amount of the award made under FY 2014 HOPE VI Main Street NOFA.

Dated: December 5, 2014.
Jemine Bryon,
Acting Assistant Secretary for Public and Indian Housing.

[FR Doc. 2014-29309 Filed 12-12-14; 8:45 am]

BILLING CODE 4210-67-P